DEPARTMENT OF COMMERCE

National Oceanic and Atmospheric Administration

15 CFR Part 922

[Docket No. 001116322-1017-02]

RIN 0648-AO74

Amendment to Florida Keys National Marine Sanctuary Regulations Revising the Boundary of the Northernmost Area To Be Avoided Off the Coast of Florida

AGENCY: National Ocean Service (NOS), National Oceanic and Atmospheric Administration (NOAA), Commerce.

ACTION: Final rule.

SUMMARY: NOAA, in cooperation with the U.S. Coast Guard (USCG), revises the boundary of the northernmost Area To Be Avoided (ATBA) off the coast of the Florida Keys. This change to the boundary is expected to increase maritime safety and to avoid harm to the marine environment and its resources.

DATES: This final rule is effective July 30, 2001.

ADDRESSES: Copies of the Final Environmental Assessment that was prepared for this action and the final rule amendment can be requested by writing to the Florida Keys National Marine Sanctuary headquarters at P.O. Box 500368, Marathon, Florida 33050.

FOR FURTHER INFORMATION CONTACT: Billy Causey, Superintendent, Florida Keys National Marine Sanctuary, Florida Keys National Marine Sanctuary Headquarters, P.O. Box 500368, Marathon, Florida 33050, Tel: (305) 743-2437, E-mail: billy.causey@noaa.gov

SUPPLEMENTARY INFORMATION:

Background

In part, as a result of three large vessel groundings within an 18-day period in the fall of 1989 on the coral reef tract of the Florida Keys, Congress enacted the Florida Keys National Marine Sanctuary and Protection Act (FKNMSPA), designating the area surrounding the Florida Keys as the Florida Keys National Marine Sanctuary (FKNMS). The primary goal of this Act is to protect the health of the fragile ecosystem of the Florida Keys. Among other things, the FKNMSPA, established four ATBAs where tank vessels and vessels larger than 50 meters are prohibited from entering. Under the FKNMSPA, NOAA and the USCG have the authority to amend the ATBAs.

On April 21, 1998, pursuant to input from the shipping industry, the Florida Keys National Marine Sanctuary Advisory Council (SAC) recommended a revision to the boundary of the northernmost ATBA to eliminate a small portion of the boundary near “the Elbow” which juts out further than other portions of the ATBA. The revision to the boundary will permit ships in two opposing traffic patterns located just outside the boundary of the ATBA to increase the distance between them, thus increasing maritime safety in the area. The revised boundary will not result in bringing ship traffic any closer to the reef than the other parts of the ATBA and, by reducing the potential for collisions, the boundary revision is beneficial for the protection of the marine environment.

The north- and east-bound vessels utilize the Gulf Stream in this area while the south- and west-bound vessels try to take advantage of countercurrents from eddies off of the Gulf Stream. The existing configuration of the ATBA near the coral reef known as “the Elbow,” when examined in relation to the axis of the Gulf Stream, results in a potential convergence of northeasterly bound and southwesterly bound traffic. The potential risk of collision increases when the Gulf Stream meanders closer to “the Elbow.” The revision of the ATBA boundary will permit ships in these two opposing traffic patterns to increase the distance between them, thus increasing maritime safety in the area. A collision in this area could cause oil and other material to seep into the Florida Keys damaging marine sanctuary resources, the marine environment, and quite possibly, the recreational, tourism and fishing industries of the Florida Keys.

In March 2000, the USCG conducted a survey of mariners, who frequently travel through this area, to see whether they believed “the Elbow” of the ATBA to be a safety hazard for vessels traveling in that area. Close to half of the mariners surveyed felt that “the Elbow” created a “pinch point” for south- and west-bound vessels that attempt to stay out of both the ATBA and the lanes of traffic for the north- and east-bound vessels. The USCG subsequently recommended the revision of the ATBA boundary in order to increase maritime safety in the area.

Based on these recommendations, and its own draft environmental assessment of the recommendations, NOAA published a proposed rule to revise the boundary in the Federal Register on November 22, 2000 (65 FR 70324, Nov. 22, 2000). Two public hearings were subsequently held on December 12 and 13, 2000. While no formal requests to present oral testimony at either meeting were received, a total of six people spoke at the meetings regarding the revised boundary. At the first meeting two individuals spoke in favor of the revision. At the second meeting one person spoke in favor of the revision and three individuals requested further information as to how the revision could affect their tugboat operations in the Florida Keys. Once it was explained that the ATBA only affects boats larger than 50 meters in registered length, the individuals spoke in favor of the change as well. One written comment was received supporting the boundary revision.

Miscellaneous Requirements

Executive Order 12866

This final rule has been determined to be not significant for purposes of Executive Order 12866.

Regulatory Flexibility Act

The Chief Counsel for Regulation of the Department of Commerce certified to the Chief Counsel for Advocacy of the Small Business Administration when the rule was proposed that it will not have a significant economic impact on a substantial number of small entities. The basis for that certification has not changed. Accordingly, a Regulatory Flexibility Analysis was not prepared.

National Environmental Policy Act Requirements

NOAA has concluded that this regulatory action does not constitute a major federal action significantly affecting the quality of the human environment. Therefore, an environmental impact statement is not required. A final environmental assessment has been prepared. Copies are available (see ADDRESSES).

Plain Language Requirement

The President has directed all agencies to use plain language in their communications with the public, including regulations. To comply with this directive, we seek public comment on any ambiguity or unnecessary complexity arising from the language used in this rule (see ADDRESSES).

List of Subjects in 15 CFR Part 922

Administrative practice and procedure, Coastal zone, Marine resources, Penalties, Recreation and recreation areas, Reporting and recordkeeping requirements, Research.

Margaret A. Davidson,
Acting Assistant Administrator for Ocean Services and Coastal Zone Management.

Accordingly, for the reasons set forth in the preamble, 15 CFR part 922 is amended as follows:

PART 922—NATIONAL MARINE SANCTUARY PROGRAM REGULATIONS

1. The authority citation for part 922 continues to read as follows:

Authority: 16 U.S.C. 1431 et seq.

Subpart P—Florida Keys National Marine Sanctuary

2. Appendix VII to subpart P is amended in the table by redesignating the entries for points 23 through 51 as 24 through 52, and by revising the entries under “In the vicinity of the Florida Keys” to read as follows:

Appendix VII To Subpart P of Part 922—Areas To Be Avoided Boundary Coordinates

In the Vicinity of the Florida Keys

[Reference Charts: United States 11466, 27th Edition—September 1, 1990 and United States 11450, 4th Edition—August 11, 1990]

Point | Latitude | Longitude
1 | 25°45.00′N | 80°06.10′W
2 | 25°38.70′N | 80°02.70′W
3 | 25°22.00′N | 80°03.00′W
4 | 25°06.38′N | 80°10.48′W
5 | 24°56.37′N | 80°19.26′W
6 | 24°37.90′N | 80°47.30′W
7 | 24°29.20′N | 81°17.30′W
8 | 24°22.30′N | 81°43.17′W
9 | 24°28.00′N | 81°43.17′W
10 | 24°28.70′N | 81°43.50′W
11 | 24°29.80′N | 81°43.17′W
12 | 24°33.10′N | 81°35.15′W
13 | 24°33.60′N | 81°26.00′W
14 | 24°38.20′N | 81°07.00′W
15 | 24°43.20′N | 80°53.20′W
16 | 24°46.10′N | 80°46.15′W
17 | 24°51.10′N | 80°37.10′W
18 | 24°57.50′N | 80°27.50′W
19 | 25°09.90′N | 80°16.20′W
20 | 25°24.00′N | 80°09.10′W
21 | 25°31.50′N | 80°07.00′W
22 | 25°39.70′N | 80°06.85′W
23 | 25°45.00′N | 80°06.10′W

* * * * *

[FR Doc. 01-16172 Filed 6-28-01; 8:45 am]

BILLING CODE 3510-08-P